DEPARTMENT OF THE INTERIOR

Fish and Wildlife Service

Endangered and Threatened Species Permit Applications

AGENCY: Fish and Wildlife Service, Interior.

ACTION: Notice of receipt of applications.

SUMMARY: The following applicants have applied for scientific research permits to conduct certain activities with endangered species pursuant to section 10(a)(1)(A) of the Endangered Species Act of 1973, as amended.

DATES: To ensure consideration, written comments must be received on or before March 31, 2006.

ADDRESSES: Written comments should be submitted to the Chief, Endangered Species Division, Ecological Services, P.O. Box 1306, Room 4102, Albuquerque, New Mexico 87103. Documents and other information submitted with these applications are available for review, subject to the requirements of the Privacy Act and Freedom of Information Act. Documents will be available for public inspection, by appointment only, during normal business hours at the U.S. Fish and Wildlife Service, 500 Gold Ave., SW., Room 4102, Albuquerque, New Mexico. Please refer to the respective permit number for each application when submitting comments. All comments received, including names and addresses, will become part of the official administrative record and may be made available to the public.

FOR FURTHER INFORMATION CONTACT: Chief, Endangered Species Division, (505) 248-6920.

SUPPLEMENTARY INFORMATION:

Permit No. TE-116411

Applicant: Pueblo of Isleta, New Mexico.

Applicant requests a new permit for research and recovery purposes to conduct presence/absence surveys for southwestern willow flycatcher (Empidonax traillii extimus) and enhance propagation for Rio Grande silvery minnow (Hybognathus amarus) within and alongside the Rio Grande River within Pueblo of Isleta boundaries.

Permit No. TE-117748

Applicant: Dale M. Heindel, Utopia, Texas.

Applicant requests a new permit for research and recovery purposes to conduct presence/absence surveys for black-capped vireo (Vireo atricapillus) within Texas.

Permit No. TE-064085

Applicant: Iris Rodden, Tucson, Arizona.

Applicant requests an amendment to an existing permit to conduct presence/absence surveys for lesser long-nosed bat (Leptonycteris curasoae yerbabuenae) within Arizona and New Mexico, northern aplomado falcon (Falco femoralis septentrionalis) within New Mexico and Texas, interior least tern (Sterna antillarum) within New Mexico and Texas, and Yuma clapper rail (Rallus longirostris yumanensis) within Arizona and California.

Permit No. TE-118414

Applicant: Cherokee Nation, Tahlequah, Oklahoma.

Applicant requests a new permit for research and recovery purposes to conduct presence/absence surveys for American burying beetle (Nicrophorus americanus) within the Cherokee Nation of Oklahoma.

Permit No. TE-009792

Applicant: The Arboretum at Flagstaff, Flagstaff, Arizona.

Applicant requests an amendment to an existing permit to conduct presence/absence surveys and to collect seed and/or cuttings for Coryphantha sneedii var. sneedii (Sneed pincushion cactus) within Carlsbad Caverns National Park, New Mexico and Purshia subintegra (Arizona cliffrose) within Arizona.

Permit No. TE-116839

Applicant: Texas Department of Transportation, San Angelo, Texas.

Applicant requests a new permit for research and recovery purposes to conduct presence/absence surveys for golden-cheeked warbler (Dendroica chrysoparia) and black-capped vireo (Vireo atricapillus) within Texas. Additionally, applicant requests authorization to survey for, collect, and relocate the following endangered plant species within Texas: Ancistrocactus tobuschii (Tobush fishhook cactus), Callirhoe scabriuscula (Texas poppy mallow), and Styrax texanus (Texas snowbells).

Permit No. TE-798998

Applicant: Horizon Environmental Services, Inc., Austin, Texas.

Applicant requests an amendment to an existing permit to conduct presence/absence surveys for the following species within Texas: jaguarundi (Herpailurus yagouaroundi cacomitli), ocelot (Leopardus pardalis), fountain darter (Etheostoma fonticola), Clear Creek Gambusia (Gambusia heterochir), and San Marcos gambusia (Gambusia georgei) within Texas.

Permit No. TE-119951

Applicant: SAGE Landscape Architecture and Environmental, Tempe, Arizona.

Applicant requests a new permit for research and recovery purposes to conduct presence/absence surveys for southwestern willow flycatcher (Empidonax traillii extimus) and Yuma clapper rail (Rallus longirostris yumanensis) within Arizona.

Authority: 16 U.S.C. 1531, et seq.

Dated: February 17, 2006.
Geoffrey L. Haskett,
Acting Regional Director, Region 2, Albuquerque, New Mexico.

[FR Doc. E6-2840 Filed 2-28-06; 8:45 am]

BILLING CODE 4310-55-P